DEPARTMENT OF DEFENSE

Office of the Secretary

[Docket ID: DoD-2015-OS-0001]

Privacy Act of 1974; System of Records

AGENCY: Defense Finance and Accounting Service, DoD.

ACTION: Notice to add a new System of Records.

SUMMARY: The Defense Finance and Accounting Service proposes to add a new system of records, T7347, entitled “Adoption Reimbursement System” to its inventory of record systems subject to the Privacy Act of 1974, as amended. The Adoption Reimbursement System is a web-based application used to input and approve military adoption reimbursement claims. This system will facilitate account maintenance, enable updates for multiple adoptions and make accurate payments.

DATES: Comments will be accepted on or before February 20, 2015. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory Outlaw, Defense Finance and Accounting Service, Freedom of Information/Privacy Act Program Manager, Corporate Communications, DFAS-HKC/IN, 8899 E. 56th Street, Indianapolis, IN 46249-0150 or at (317) 510-4591.

SUPPLEMENTARY INFORMATION: The Defense Finance and Accounting Service notices for systems of records subject to the Privacy Act of 1974 (5 U.S.C. 552a), as amended, have been published in the Federal Register and are available from the address in FOR FURTHER INFORMATION CONTACT or from the Defense Privacy and Civil Liberties Office at http://dpcld.defense.gov.

The proposed system report, as required by 5 U.S.C. 552a(r) of the Privacy Act of 1974, as amended, was submitted on December 9, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 15, 2015.
Aaron Siegel,
Alternate OSD Federal Register Liaison Officer, Department of Defense.

T7347

System name:

Adoption Reimbursement System

System location:

Defense Finance and Accounting Service-Cleveland, 1240 East 9th Street, Cleveland, OH 44199-2055.

Categories of individuals covered by the system:

Active Duty members of the Army, Navy, Air Force and Marine Corps.

Categories of records in the system:

Individual's full name, Social Security Number (SSN), marital status, pay grade, branch of service, amount paid member, address, country, in service spouse, and bank account number. If the “in service spouse” option is chosen, then the spouse's Social Security Number (SSN), full name, and branch of service is included.

Authority for maintenance of the system:

10 U.S.C. Code 1052, Adoption Expenses: Reimbursement; (DoDFMR) 7000.14-R, Volume 7A, Chapter 4, Department of Defense Financial Management Regulation, Reimbursement of Adoption Expenses; DoDI 1341.9, DoD Adoption Reimbursement Policy; 5 U.S.C. 301, Departmental Regulation; and E.O. 9397 (SSN), as amended.

Purpose(s):

The Adoption Reimbursement System is a web-based application used to input and approve military adoption reimbursement claims. The records facilitate account maintenance, enable updates for multiple adoptions and make accurate payments.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

To the Federal Reserve banks to distribute payments made through the direct deposit system to financial organizations or their processing agents authorized by individuals to receive and deposit payments in their accounts.

The DoD Blanket Routine Uses published at the beginning of the DFAS compilation of systems of records notices may also apply to this system.

Policies and practices for storing, retrieving, accessing, retaining, and disposing of records in the system:

Storage:

Electronic storage media and paper copies.

Retrievability:

Retrieved by name and/or SSN.

Safeguards:

Records are maintained in a controlled facility. Physical entry is restricted by the use of locks, guards, and is accessible only to authorized personnel. Access to records is limited to person(s) responsible for servicing the record in performance of their official duties and who are properly screened and cleared for need-to-know. A System Authorization Access Request (SAAR) must be submitted and screened before any access is approved. Access to computerized data is restricted by passwords, which are changed according to agency security policy.

Retention and disposal:

Records are cut off at the end of the fiscal year and destroyed 6 years and 3 months after the later of either closure of appropriate account or liquidation of all obligations in the closed account.

System manager(s) and address:

System Manager, Defense Finance and Accounting Service-Cleveland, 1240 East 9th Street, Cleveland, OH 44199-2055.

Notification procedure:

Individuals seeking to determine whether information about themselves is contained in this record system should address written inquiries to the Defense Finance and Accounting Service, Freedom of Information/Privacy Act Program Manager, Corporate Communications, DFAS-ZCF/IN, 8899 E. 56th Street, Indianapolis, IN 46249-0150.

Requests should contain individual's full name, SSN for verification, current address to reply, and provide a reasonable description of what they are seeking.

Record access procedures:

Individuals seeking access to information about themselves contained in this record system should address written inquiries to Defense Finance and Accounting Service, Freedom of Information/Privacy Act Program Manager, Corporate Communications, DFAS-ZCF/IN, 8899 E. 56th Street, Indianapolis, IN 46249-0150.

Requests should contain individual's full name, SSN for verification, current address to reply, and telephone number.

Contesting record procedures:

The Defense Finance and Accounting Service (DFAS) rules for accessing records, for contesting contents and appealing initial agency determinations are published in Defense Finance and Accounting Service Regulation 5400.11-R, 32 CFR 324; or may be obtained from the Defense Finance and Accounting Service, Freedom of Information/Privacy Act Program Manager, Corporate Communications, DFAS-ZCF/IN, 8899 E. 56th Street, Indianapolis, IN 46249-0150.

Record source categories:

From the individual.

Exemptions claimed for the system:

None.

[FR Doc. 2015-00884 Filed 1-20-15; 8:45 am]

BILLING CODE 5001-06-P